DEPARTMENT OF TRANSPORTATION

Surface Transportation Board

[Finance Docket No. 34079]

San Jacinto Rail Limited—Construction Exemption—and the Burlington Northern and Santa Fe Railway Company—Operation Exemption—Build-Out to the Bayport Loop Near Houston, Harris County, Texas

AGENCY: Surface Transportation Board.

ACTION: Notice of Availability of Draft Scope of Study for the Environmental Impact Statement, Notice of Scoping Meetings, and Request for Comments.

SUMMARY: On August 30, 2001, San Jacinto Rail Limited (San Jacinto) and The Burlington Northern and Santa Fe Railway (BNSF) (collectively the Applicants) filed a petition with the Surface Transportation Board (Board) pursuant to 49 U.S.C. 10502 for authority for construction by San Jacinto and operation by BNSF of a new rail line near Houston, Harris County, Texas. The project would involve approximately 12.8 miles of new rail line to serve the petro-chemical industries in the Bayport Industrial District (Bayport Loop). Because the construction and operation of this project has the potential to result in significant environmental impacts, the Board's Section of Environmental Analysis (SEA) has determined that the preparation of an Environmental Impact Statement (EIS) is appropriate. SEA is holding public scoping meetings as part of the EIS process, as discussed in the Notice of Intent to Prepare an EIS published by the Board on October 1, 2001. As part of the scoping process, SEA has developed a draft Scope of Study for the EIS.

DATES AND LOCATIONS: Scoping meetings will be held on:

January 14, 2002, 2-4 pm and 7-9 pm,

January 15, 2002, 2-4 pm and 7-9 pm.

The scoping meetings will be held at the: Pasadena Convention Center, 7902 Fairmont Parkway, Pasadena, Texas.

The public scoping meetings will be informal meetings in a workshop format during which interested persons may ask questions about the proposal and the Board's environmental review process, and advise the Board's representative about potential environmental effects of the project. SEA has made available for public comment the draft scope contained in this notice. SEA will issue a final scope shortly after the close of the comment period. Written comments on the Scope of Study are due February 1, 2002 (60 days).

Filing Environmental Comments: Interested persons and agencies are invited to participate in the EIS scoping process. A signed original and 10 copies of comments should be submitted to: Office of the Secretary, Case Control Unit, STB Finance Docket No. 34079, Surface Transportation Board, 1925 K Street, NW, Washington, DC 20423-0001.

To ensure proper handling of your comments, you must mark your submission: Attention: Dana White, Section of Environmental Analysis, Environmental Filing.

FOR FURTHER INFORMATION CONTACT: Ms. Dana White, Section of Environmental Analysis, Surface Transportation Board, 1925 K Street, NW, Washington, DC 20423-0001, or SEA's toll-free number for this project at 1-888-229-7857 (TDD for the hearing impaired 1-800-877-8339). The web site for the Surface Transportation Board is www.stb.dot.gov.

SUPPLEMENTARY INFORMATION:

Draft Scope of Study for the EIS

Proposed Action and Alternatives

The proposed action, known as the Bayport Loop Build-Out, involves the construction and operation of approximately 12.8 miles of new rail line connecting the Bayport Loop petro-chemical and plastic production facilities and the former Galveston, Henderson & Houston Railroad line, now owned by the Union Pacific Railroad Company (UP), near the southeast corner of Ellington Field at Texas State Highway 3. The proposed action also includes operating trains from the BNSF New South Yard over trackage rights on Union Pacific mainlines to the point of connection. As a result of the new construction, BNSF would have access to the facilities located in the Bayport Loop using the new line, and the facilities would be provided with a choice of rail providers.

The reasonable and feasible alternatives that will be evaluated in the EIS are (1) construction and operation of the proposed project along the identified preferred alignment, (2) other alternatives that might be identified during the scoping process, and (3) the no-action alternative.

Environmental Impact Analysis

Proposed New Construction

Analysis in the EIS will address the proposed activities associated with the construction and operation of new rail facilities and their potential environmental impacts, as appropriate.

Impact Categories

The EIS will address potential impacts from the proposed construction and operation of new rail facilities on the human and natural environment. Impact areas addressed will include the categories of land use, biological resources, water resources, geology and soils, air quality, noise, energy resources, socioeconomics as they relate to physical changes in the environment, safety, transportation systems, cultural and historic resources, recreation, aesthetics, and environmental justice. The EIS will include a discussion of each of these categories as they currently exist in the project area and will address the potential impacts from the proposed project on each category as described below:

1. Land Use

The EIS will:

a. Describe existing land use patterns within the project area and identify those land uses that would be potentially impacted by new rail line construction.

b. Describe the potential impacts associated with the proposed new rail line construction to land uses identified within the project area. Such potential impacts may include impacts to farming and ranching activities, incompatibility with existing land uses, consistency with the coastal zone management plan, and conversion of land to railroad uses.

c. Propose mitigative measures to minimize or eliminate potential project impacts to land use, as appropriate.

2. Biological Resources

The EIS will:

a. Describe the existing biological resources within the project area, including vegetative communities, wildlife and fisheries, and federal and state threatened or endangered species and the potential impacts to these resources resulting from construction and operation of new rail facilities.

b. Describe any wildlife sanctuaries, refuges, and national or state parks, forests, or grasslands within the project area and the potential impacts to these resources resulting from construction and operation of new rail line.

c. Propose mitigative measures to minimize or eliminate potential project impacts to biological resources, as appropriate.

3. Water Resources

The EIS will:

a. Describe the existing surface and groundwater resources within the project area, including lakes, rivers, bayous, streams, stock ponds, wetlands, and floodplains and the potential impacts on these resources resulting from construction and operation of new rail line.

b. Describe the permitting requirements for the proposed new rail line construction regarding wetlands, stream and river crossings, water quality, and erosion control.

c. Propose mitigative measures to minimize or eliminate potential project impacts to water resources, as appropriate.

4. Geology and Soils

The EIS will:

a. Describe the geology and soils found within the project area, including unique or problematic geologic formations or soils and prime farmland and hydric soils and the potential impacts on these resources resulting from the construction and operation of new rail line.

b. Describe measures employed to avoid or construct through unique or problematic geologic formations or soils.

c. Propose mitigative measures to minimize or eliminate potential project impacts to geology and soils, as appropriate.

5. Air Quality

The EIS will:

a. Evaluate rail-related air emissions on new rail line, if the proposed project affects a Class I or non-attainment area as designated under the Clean Air Act.

b. Discuss and evaluate the potential air emissions increases from vehicle delays at new at-grade road/rail crossings. Emissions from vehicle delays will be factored into the emissions estimates for the affected area, as appropriate.

c. Describe the potential air quality impact resulting from new rail line construction activities.

d. Propose mitigative measures to minimize or eliminate potential project impacts to air quality, as appropriate.

6. Noise

The EIS will:

a. Describe the potential noise impacts during new rail line construction.

b. Describe the potential noise impacts of new rail line operation for those areas that exceed the Board's environmental threshold of eight or more trains per day.

c. Propose mitigative measures to minimize or eliminate potential project impacts to noise receptors, as appropriate.

7. Energy Resources

The EIS will:

a. Describe the potential impact of the new rail line on the distribution of energy resources in the project area, including petroleum and gas pipelines and overhead electric transmission lines.

b. Propose mitigative measures to minimize or eliminate potential project impacts to energy resources, as appropriate.

8. Socioeconomics

The EIS will:

a. Describe the potential environmental impacts to residences, residential areas, and communities within the project area as a result of new rail line construction and operation activities.

b. Describe the potential environmental impacts to commercial and industrial activities and development in the project area as a result of new rail line construction and operation.

c. Propose mitigative measures to minimize or eliminate potential project adverse impacts to social and economic resources, as appropriate.

9. Safety

The EIS will:

a. Describe existing road/rail grade crossing safety and the potential for an increase in accidents related to the new rail operations, as appropriate.

b. Describe existing rail operations and the potential for increased probability of train accidents, as appropriate.

c. Describe pipeline safety factors at rail/pipeline crossings, as appropriate.

d. Describe hazardous materials safety factors for the transportation of hazardous materials and the potential for a release of those materials, as appropriate.

e. Describe the potential for disruption and delays to the movement of emergency vehicles due to new rail line construction and operation.

f. Propose mitigative measures to minimize or eliminate potential project impacts to safety, as appropriate.

10. Transportation Systems

The EIS will:

a. Describe the potential impacts of new rail line construction and operation on the existing transportation network in the project area, including vehicular delays at grade crossings.

b. Describe potential impacts to navigation associated with new bridges.

c. Propose mitigative measures to minimize or eliminate potential project impacts to transportation systems, as appropriate.

11. Cultural and Historic Resources

The EIS will:

a. Describe the potential impacts to historic structures or districts previously recorded and determined potentially eligible, eligible, or listed on the National Register of Historic Places within or immediately adjacent to the right-of-way for the preferred and alternative construction alignments.

b. Describe the potential impacts to archaeological sites previously recorded and either listed as unevaluated or determined potentially eligible, eligible, or listed on the National Register of Historic Places within the right-of-way for the preferred and alternative construction alignments.

c. Describe the potential impacts to historic structures or districts identified by ground survey and determined potentially eligible, eligible, or listed on the National Register of Historic Places within or immediately adjacent to the right-of-way for the preferred and alternative construction alignments.

d. Describe the potential impacts to archaeological sites identified by ground survey and determined potentially eligible, eligible, or listed on the National Register of Historic Places within the right-of-way for the preferred and alternative construction alignments.

e. Describe the potential general impacts to paleontological resources in the project area due to project construction, if necessary and required.

f. Propose mitigative measures to minimize or eliminate potential project impacts to cultural and historic resources, as appropriate.

12. Recreation

The EIS will:

a. Describe the potential impacts of the proposed new rail line construction and operation on recreational opportunities provided in the project area.

b. Propose mitigative measures to minimize or eliminate potential project impacts on recreational opportunities, as appropriate.

13. Aesthetics

The EIS will:

a. Describe the potential impacts of the proposed new rail line construction on any areas identified or determined to be of high visual quality.

b. Describe the potential impacts of the proposed new rail line construction on any waterways considered for or designated as wild and scenic.

c. Propose mitigative measures to minimize or eliminate potential project impacts on aesthetics, as appropriate.

14. Environmental Justice

The EIS will:

a. Describe the demographics in the project area and the immediate vicinity of the proposed new construction, including communities potentially impacted by the construction and operation of the proposed new rail line.

b. Evaluate whether new rail line construction or operation would have a disproportionately high adverse impact on any minority or low-income groups.

c. Propose mitigative measures to minimize or eliminate potential project impacts on aesthetics, as appropriate.

15. Cumulative Impacts

The EIS will address the impact on the environment which results from the incremental impact of the action when added to other past, present, and reasonably foreseeable future actions regardless of what agency (Federal or non-federal) or person undertakes such actions.

By the Board, Victoria Rutson, Chief, Section of Environmental Analysis.
Vernon A. Williams,
Secretary.

[FR Doc. 01-29387 Filed 11-23-01; 8:45 am]

BILLING CODE 4915-00-P